DEPARTMENT OF AGRICULTURE

Forest Service

Mt. Baker-Snoqualmie National Forest; Snohomish County, WA; Green Mountain Lookout Removal

AGENCY: Forest Service, USDA.

ACTION: Notice of intent to prepare an environmental impact statement.

SUMMARY: This project would remove the historic fire lookout on Green Mountain and relocate it to Circle Peak, authorizing the use of motorized equipment and mechanical transport within the Glacier Peak Wilderness in connection with the removal. Green Mountain Lookout is approximately one air mile inside Glacier Peak Wilderness, Darrington Ranger District, Mt. Baker-Snoqualmie National Forest. Circle Peak is on National Forest land outside Wilderness and approximately six miles southwest of Green Mountain.

DATES: Comments concerning the scope of the analysis must be received by June 3, 2013. The draft environmental impact statement is expected November 2013, and the final environmental impact statement is expected March 2014.

ADDRESSES: Send written comments to Attn: Todd Griffin, Project Leader, Mt. Baker-Snoqualmie National Forest, 2930 Wetmore Avenue, Suite 3A, Everett, Washington 98201. Comments may also be sent via email to toddgriffin@fs.fed.us, or via facsimile to (425) 783-0141.

FOR FURTHER INFORMATION CONTACT: Todd Griffin, Project Leader, at (360) 677-2258.

Individuals who use telecommunication devices for the deaf (TDD) may call the Federal Information Relay Service (FIRS) at 1-800-877-8339 between 8 a.m. and 8 p.m., Eastern Time, Monday through Friday.

SUPPLEMENTARY INFORMATION: The Green Mountain Lookout is located in the western portion of the 573,000-acre Glacier Peak Wilderness near Darrington, Washington. It was built in 1933 by the Civilian Conservation Corps as part of a fire detection system in the North Cascade Mountains. The lookout served in this role until 1984 when aerial fire detection became more prevalent; the fire staffing was gradually replaced by wilderness ranger staffing. In 1964 the North Cascades National Park Act expanded Glacier Peak Wilderness to include the point of Green Mountain on which the lookout is sited. In 1987, the lookout was listed on the National Register of Historic Places. Through the years, natural elements have taken a toll on the lookout. Maintenance and restoration efforts have been on-going for several decades, with major reconstruction in 1950 and 1998. In 2002, the lookout was disassembled and removed from Green Mountain in order to make repairs to a deteriorating foundation. In 2009, the repairs to the foundation were completed, and the lookout was flown back to its original location at Green Mountain and placed on the new foundation.

In 2010, a lawsuit was filed against the Forest Service seeking declaratory judgment and injunction requiring the removal of the lookout. The plantiff alleged that the Forest Service violated the Wilderness Act and the National Environmental Policy Act (NEPA) with the removal and reassembly of the lookout, and the use of mechanized transport. The court agreed with the plantiff's claims and ordered the Forest Service to remove the lookout. In an amended decision, the court granted a motion that the Forest Service should be afforded the opportunity to determine how to move forward to implement the court's order to remove the lookout.

Purpose and Need for Action

The Purpose and Need is to comply with the Court directive requiring removal of Green Mountain Lookout while maintaining compliance with the Wilderness Act and National Historic Preservation Act.

1. There is a need for the Forest Service to comply with the 2012 Summary Judgment by the U.S. District Court, as amended, requiring the Forest Service to remove Green Mountain Lookout (Wilderness Watch v. Y. Robert Iwamoto and United States Forest Service, U.S. District Court for Western Washington, Case NO. C10-1797-JCC, 03/27/2012; as amended 09/20/2012).

2. There is a need to remove Green Mountain Lookout and restore the mountain top in such a manner as to respect the Wilderness character of Glacier Peak Wilderness while complying with the court directive (1964 Wilderness Act and Mt. Baker-Snoqualmie National Forest Land and Resource Management Plan (Forest Plan), Wilderness Forest-wide standards and guidelines, p. 4-115).

3. There is a need to manage historic properties and maintain compliance with the National Historic Preservation Act, associated regulations and policy, and the Forest Plan, while complying with the court directive (36 CFR 800; Mt. Baker-Snoqualmie National Forest Land and Resource Management Plan (Forest Plan), Archaeology Forest-wide Standards and Guidelines, p. 4-99).

Proposed Action

The Mt. Baker-Snoqualmie National Forest (MBS) proposes to remove Green Mountain Lookout from its current location within Glacier Peak Wilderness, and relocate the structure to Circle Peak, a similar mountain top outside of Wilderness but nearby on National Forest Service System (NFS) lands.The Proposed Action would include three elements in support of the project's Purpose and Need. It would:

1. Remove existing lookout at Green Mountain from Glacier Peak Wilderness and restore the mountain top. This element would ensure that the project would comply with the Summary Judgment of the Court.

2. Utilize motorized equipment and mechanical transport within Glacier Peak Wilderness for the removal of Green Mountain lookout. The Forest Service would complete a minimum requirement analysis (MRA) to determine whether motorized equipment and mechanized transport would be necessary for the minimum administration of the area with respect to Wilderness values.

3. Construct new foundation and relocate Green Mountain Lookout onto nearby Circle Peak. This element would address the need to manage historic properties and maintain compliance with the National Historic Preservation Act.

Connected actions associated with the removal of Green Mountain Lookout would include the following items:

• Designation of a staging area at Green Mountain Horse Pasture. This site would be utilized for temporary staging and storing of equipment and materials. Clearing of vegetation may be required at this site to ensure safe ingress and egress of aircraft.

• Use of heavy and medium lift helicopters to ferry both personnel and materials to and from Green Mountain. Flights would be in support of relocating Green Mountain Lookout and restoring mountain top. A project aviation safety plan would be completed before implementation.

• Two repeaters (Snohomish County SAR and Forest Service) currently housed inside of Green Mountain Lookout would be taken out of service and returned to the responsible agency.

• The catwalk attached to Green Mountain Lookout would be separated from the main structure and stored temporarily at Green Mountain Horse Pasture, where it would be salvaged. The catwalk will not be re-attached to the lookout when relocated to Circle Peak.

• In addition to removing the lookout, restoration of mountain top would include demolishing the concrete foundation and removal of all materials to the extent possible. Disturbed areas would be re-vegetated where feasible.

Connected actions associated with relocation of Green Mountain Lookout to Circle Peak would include the following items:

• Designation of a staging area at the Seed Orchard. This site would be utilized for temporary staging and storing of equipment and materials. Clearing of vegetation may be required at this site to ensure safe ingress and egress of aircraft.

• Construction of a concrete foundation for the placement of Green Mountain Lookout. Minor soil excavation and clearing of vegetation would result from construction of the foundation.

• Use of heavy and medium lift helicopters to ferry both personnel and materials to and from Circle Peak and the Seed Orchard. Flights would be in support of constructing a new foundation for the placement of Green Mountain Lookout. A project aviation safety plan would be completed before implementation.

Project implementation is expected to occur throughout the summer months of 2014. Both Green Mountain and Circle Peak are at high elevation and would not permit project activities for most of the year, excepting July to October when the sites are normally snow free. It may be necessary to store the lookout temporarily at either Green Mountain horse pasture or the Seed Orchard if construction of new foundation is not completed as anticipated. Potential delays for constructing the new foundation as scheduled could be funding or adverse weather conditions if project extends into October or later. If funding or inclement weather become an issue during implementation, priority would be given to removing the lookout from Green Mountain and storing until the project site at Circle Peak is completed.

Possible Alternatives

1. Use of helicopter to airlift lookout intact for placement elsewhere on Forest lands, restore mountain top (Proposed Action)

2. Incinerate lookout, restore mountain top

3. Disassemble lookout by hand and pack out all material, restore mountain top

4. Disassemble lookout by hand, use of helicopter for ingress/egress of personnel and materials, restore mountain top

5. Donate lookout to local museum, to include airlifting structure intact, restore mountain top.

Responsible Official

The Responsible Official is the Mt. Baker-Snoqualmie National Forest Supervisor.

Nature of Decision To Be Made

The Forest Supervisor will make the following decisions based on the interdisciplinary analysis: (1) What method would the Forest Service remove the lookout; (2) what would be the ultimate disposition of the lookout; this depends in part on item (1), the method of removal.

Preliminary Issues

1. Effects of motorized equipment and mechanized transport inside of Wilderness

2. Effects to historic properties

3. Cost to taxpayers.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the agency with the ability to provide the commenter with project updates.

Dated: April 25, 2013.
Mike Schlafmann,
Acting Forest Supervisor.

[FR Doc. 2013-10322 Filed 5-1-13; 8:45 am]

BILLING CODE M